SECURITIES AND EXCHANGE COMMISSION

Sunshine Act Meetings

FEDERAL REGISTER CITATION OF PREVIOUS ANNOUNCEMENT: To Be Published.

PREVIOUSLY ANNOUNCED TIME AND DATE OF THE MEETING: Wednesday, May 6, 2020 at 1:00 p.m.

CHANGES IN THE MEETING: The Closed Meeting scheduled for Wednesday, May 6, 2020 at 1:00 p.m. has been changed to Wednesday, May 6, 2020 at 10:00 a.m.

CONTACT PERSON FOR MORE INFORMATION: For further information and to ascertain what, if any, matters have been added, deleted or postponed, please contact the Office of the Secretary at (202) 551-5400.

Dated: April 30, 2020.
Vanessa A. Countryman,
Secretary.

[FR Doc. 2020-09626 Filed 4-30-20; 4:15 pm]

BILLING CODE 8011-01-P